DEPARTMENT OF AGRICULTURE

Animal and Plant Health Inspection Service

[Docket No. APHIS-2019-0056]

Notice of Request for Extension of Approval of an Information Collection; Importation of Table Eggs From Regions Where Newcastle Disease Exists and Exportation of Poultry and Hatching Eggs

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the importation of table eggs from regions where Newcastle disease exists and exportation of poultry and hatching eggs from the United States.

DATES: We will consider all comments that we receive on or before November 12, 2019.

ADDRESSES: You may submit comments by either of the following methods:

• Federal eRulemaking Portal: Go to http://www.regulations.gov/#!docketDetail;D=APHIS-2019-0056.

• Postal Mail/Commercial Delivery: Send your comment to Docket No. APHIS-2019-0056, Regulatory Analysis and Development, PPD, APHIS, Station 3A-03.8, 4700 River Road Unit 118, Riverdale, MD 20737-1238.

Supporting documents and any comments we receive on this docket may be viewed at http://www.regulations.gov/#!docketDetail;D=APHIS-2019-0056 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for the importation of tables eggs and exportation of poultry and hatching eggs, contact Dr. Magde Elshafie, Senior Staff Veterinarian, Strategy and Policy, Veterinary Services, APHIS, 4700 River Road Unit 39, Riverdale, MD 20737; (301) 851-3300. For more detailed information on the information collection, contact Mr. Joseph Moxey, APHIS' Information Collection Specialist, at (301) 851-2483.

SUPPLEMENTARY INFORMATION:

Title: Importation of Table Eggs From Regions Where Newcastle Disease Exists and Exportation of Poultry and Hatching Eggs.

OMB Control Number: 0579-0328.

Type of Request: Extension of approval of an information collection.

Abstract: Under the Animal Health Protection Act (the Act, 7 U.S.C. 8301 et seq.), the Animal and Plant Health Inspection Service (APHIS) of the U.S. Department of Agriculture (USDA) is authorized, among other things, to prohibit or restrict the importation and interstate movement of animals and animal products to prevent the introduction into and dissemination within the United States of livestock diseases and pests. To carry out this mission, APHIS regulates the importation of animals and animal products into the United States. In addition, under the Act, APHIS collects information and conducts inspections to ensure that poultry and hatching eggs exported from the United States are free of communicable diseases.

The regulations contained in 9 CFR parts 93 and 94 govern the importation of carcasses, meat, parts or products of carcasses, and eggs (other than hatching eggs) of poultry, game birds, and other birds to prevent the introduction of Newcastle disease (ND) and highly pathogenic avian influenza (HPAI) into the United States. There are requirements for the importation of table eggs from regions where ND and HPAI exists, including Mexico, and these requirements involve information collection activities that include a certificate for table eggs from ND and HPAI affected regions and a government seal issued by the veterinarian accredited by the national government who signed the certificate.

For the export of poultry and hatching eggs from the United States to other countries, there are specific requirements, including certification that the poultry and hatching eggs are free of diseases, along with a USDA seal and endorsement by an authorized APHIS veterinarian. In addition, APHIS requires owners and exporters of poultry and hatching eggs to provide health and identification information via a certificate for poultry and hatching eggs.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.5 hours per response.

Respondents: Owners of poultry and hatching egg operations, exporters, and national animal health authorities.

Estimated annual number of respondents: 201.

Estimated annual number of responses per respondent: 34.

Estimated annual number of responses: 6,803.

Estimated total annual burden on respondents: 3,405 hours. (Due to averaging, the total annual burden hours may not equal the product of the annual number of responses multiplied by the reporting burden per response.)

All responses to this notice will be summarized and included in the request for OMB approval. All comments will also become a matter of public record.

Done in Washington, DC, this 6th day of September 2019.
Kevin Shea,
Administrator, Animal and Plant Health Inspection Service.

[FR Doc. 2019-19753 Filed 9-11-19; 8:45 am]

BILLING CODE 3410-34-P